NATIONAL SCIENCE FOUNDATION

Notice of Meeting of the Advisory Committee for Social, Behavioral and Economic Sciences

In accordance with the Federal Advisory Committee Act (Pub. L. 92-463, as amended), the National Science Foundation announces the following meeting:

Name: Advisory Committee for Social, Behavioral and Economic Sciences (#1171).

Date/Time: October 30, 2014; 8:30 a.m. to 5 p.m., October 31, 2014; 9 a.m. to 12:15 p.m.

Place: National Science Foundation, 4201 Wilson Boulevard, Stafford I, Room 1235, Arlington, VA 22230.

Type of Meeting: Open.

Contact Person: Dr. Deborah Olster, Office of the Assistant Director, Directorate for Social, Behavioral and Economic Sciences, National Science Foundation, 4201 Wilson Boulevard, Room 905, Arlington, Virginia 22230; Telephone 703-292-8700.

Summary of Minutes: May be obtained from contact person listed above.

Purpose of Meeting: To provide advice and recommendations to the National Science Foundation on major goals and policies pertaining to Social, Behavioral and Economic Sciences Directorate (SBE) programs and activities.

Agenda:

Thursday, October 30, 2014 8:30 a.m.-5:00 p.m.

• Directorate Update: Dr. Fay Lomax Cook.

• Joint Meeting of SBE Advisory Committee (AC) and NSF Advisory Committee for Cyberinfrastructure.

• Reproducibility and Data Sharing.

• Privacy and Confidentiality.

• Report from SBE AC Subcommittee on Replicability in Science.

• Report from SBE AC Subcommittee on Advancing SBE Survey Research.

• Directions for SBE Science in the 21th Century: Beyond the Mosaic.

• Meeting with NSF Leadership.

Friday, October 31, 2014; 9 a.m.-12:15 p.m.

• National Center for Science and Engineering Statistics.

• Understanding the Brain.

• Agenda and Dates for Future Meetings, Assignments and Concluding Remarks.

Dated: September 30, 2014.
Suzanne Plimpton,
Acting, Committee Management Officer.

[FR Doc. 2014-23590 Filed 10-2-14; 8:45 am]

BILLING CODE 7555-01-P